DEPARTMENT OF ENERGY
Federal Energy Regulatory Commission
[Project No. 2213-009-Washington]
Public Utility District No. 1 of Cowlitz County; Notice of Availability of Draft Environmental Assessment
January 23, 2004.
In accordance with the National Environmental Policy Act of 1969, as amended, and the Federal Energy Regulatory Commission's (Commission) regulations (18 CFR Part 380), Commission staff have reviewed plans, filed September 3, 2003 and supplemented November 17, 2003 and December 10, 2003, to repair the Swift No. 2 Project's power canal, tailrace, and switchyard. The project is located on the North Fork Lewis River in Washington.
The project licensee (Public Utility District No. 1 of Cowlitz County) proposes to repair and reconstruct the damage to the Swift No. 2 Project's power canal, tailrace, and switchyard following an April 21, 2002 canal breach and washout. Under Section 10(c) of the FPA, the licensee is obligated to maintain the project works in a good state of repair. The licensee has proposed a reasonable schedule for the work. In the draft EA, Commission staff has analyzed the probable environmental effects of the proposed work and has concluded that approval, with appropriate environmental measures, would not constitute a major Federal action significantly affecting the quality of the human environment.

Copies of the draft EA are available for review in Public Reference Room 2-A of the Commission's offices at 888 First Street, NE., Washington, DC. The draft EA also may be viewed on the Commission's Internet Web site (http://www.ferc.gov) using the “eLibrary” link. Additional information about the project is available from the Commission's Office of External Affairs, at (202) 502-6088 or on the Commission's Web site using the eLibrary link. Click on the eLibrary link, enter the docket number excluding the last three digits in the Docket Number field. Be sure you have selected an appropriate date range. For assistance, contact FERCOnlineSupport@ferc.govor call toll-free at (866) 208-3676, or for TTY contact (202) 502-8659.
Anyone may file comments on the draft EA. The public, federal and state resource agencies are encouraged to provide comments. Any comments on the draft EA should be filed within 15 days of the date of this notice and should be addressed to: Magalie R. Salas, Secretary, Federal Energy Regulatory Commission, 888 First Street, NE., Washington, DC 20426. Please reference “Swift No. 2 Project, FERC Project No. 2213-009” on all comments. Comments may be filed electronically via the Internet in lieu of paper. See 18 CFR 385.2001(a)(1)(iii) and the instructions on the Commission's Web site under the “e-Filing” link.

Magalie R. Salas,
Secretary.

[FR Doc. E4-159 Filed 1-29-04; 8:45 am]
BILLING CODE 6717-01-P